NUCLEAR REGULATORY COMMISSION

Meeting Concerning the Revision of the Oversight Program for Nuclear Fuel Cycle Facilities

AGENCY: Nuclear Regulatory Commission (NRC).

ACTION: Notice of public meeting.

SUMMARY: NRC will hold a public meeting at the NRC Headquarters location at 11555 Rockville Pike, in Rockville, MD to provide the public, those regulated by the NRC, and other stakeholders with information about, and an opportunity to provide views on, how NRC plans to revise its oversight program for nuclear fuel cycle facilities. This meeting follows a February 8, 2001 public meeting regarding the work plan for the oversight revision project.

Similar to the revision of the oversight program for commercial nuclear power reactor plants, NRC initiated an effort to improve its oversight program for nuclear fuel cycle facilities. This effort is described in SECY-99-188, “Evaluation and Proposed Revision of the Nuclear Fuel Cycle Facility Safety Inspection Program,” and in SECY-00-0222, “Status of Nuclear Fuel Cycle Facility Oversight Program Revision.” SECY-99-188 and SECY-00-0222 are available in the Public Document Room and on the NRC Web Page at http://www.nrc.gov/NRC/COMMISSION/SECYS/index.html. Additional project information can be found on the NRC technical conference website at http://techconf.llnl.gov/cgi-bin/topics.

Purpose of Meeting: To obtain stakeholder views on how to improve the NRC oversight program for ensuring that fuel cycle licensees and certificate holders maintain protection of worker and public health and safety, protection of the environment, and safeguards for special nuclear material and classified matter in the interest of national security. The oversight program applies to commercial nuclear fuel cycle facilities regulated under 10 CFR parts 40, 70, and 76. The facilities currently include gaseous diffusion plants, highly enriched uranium fuel fabrication facilities, low-enriched uranium fuel fabrication facilities, and a uranium hexafluoride (UF6) production facility. These facilities possess large quantities of materials that are potentially hazardous (i.e., radioactive, toxic, and/or flammable) to the workers, public, and environment. Also, some of the facilities possess information and material important to national security. In revising the oversight program, the goal is to have an oversight program that: (1) Provides earlier and more objective indications of facility performance in the areas of safety and national security, (2) increases stakeholder confidence in the NRC, and (3) increases regulatory effectiveness, efficiency, and realism. To achieve this goal, the NRC desires the revised oversight program to be more risk-informed and performance-based.

The May 8, 2001 public meeting will focus on the development of a general policy on how the effectiveness of licensee corrective actions will be factored into performance assessments and the NRC's response to licensee performance.

DATES: Members of the public, industry, and other stakeholders are invited to attend and participate in the meeting, which is scheduled for 9 to 10:15 a.m. on Tuesday, May 8, 2001. The meeting will be held in the One White Flint North building in conference room O-4B6.

ADDRESSES: NRC Headquarters, 11555 Rockville Pike, in Rockville, MD. Visitor parking around NRC Headquarters is limited; however, the public meeting site may be reached by taking the Washington DC area metro to White Flint. NRC Headquarters is located across the street from the White Flint metro station.

FOR FURTHER INFORMATION, CONTACT: Patrick Castleman, Office of Nuclear Material Safety and Safeguards, U.S. Nuclear Regulatory Commission, Washington, DC 20555, telephone (301) 415-8118, e-mail pic@nrc.gov.

For the Nuclear Regulatory Commission.
Dated at Rockville, Maryland this 20 day of April, 2001.
Patrick Castleman,
Project Manager, Inspection Section, Safety and Safeguards Support Branch, Division of Fuel Cycle Safety and Safeguards.

[FR Doc. 01-10414 Filed 4-25-01; 8:45 am]

BILLING CODE 7590-01-U